DEPARTMENT OF ENERGY

[OE Docket No. PP-334]

Application for Presidential Permit; Baja Wind U.S. Transmission, LLC

AGENCY: Office of Electricity Delivery and Energy Reliability, DOE.

ACTION: Notice of Application.

SUMMARY: Sempra Generation, on behalf of Baja Wind U.S. Transmission, LLC (Baja Wind), has applied for a Presidential permit to construct, operate, maintain, and connect an electric transmission line across the U.S. border with Mexico.

DATES: Comments, protests, or requests to intervene must be submitted on or before March 24, 2008.

ADDRESSES: Comments, protests, or requests to intervene should be addressed as follows: Office of Electricity Delivery and Energy Reliability (OE-20), U.S. Department of Energy, 1000 Independence Avenue, SW., Washington, DC 20585-0350.

FOR FURTHER INFORMATION CONTACT: Ellen Russell (202-586-9624) (Program Office) or Michael T. Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On December 20, 2007, Sempra Generation, on behalf of Baja Wind, a Delaware limited liability corporation and wholly-owned subsidiary of Sempra Generation, filed an application with the Office of Electricity Delivery and Energy Reliability of the Department of Energy (DOE) for a Presidential permit. Baja Wind requests authority to construct, own, operate, and maintain the U.S. portion of a single-circuit 500-kilovolt (500-kV) electric transmission line that crosses the U.S.-Mexico international border in the vicinity of Jacumba, San Diego County, California.

The proposed transmission line project would connect up to 1,250 megawatts of electric power produced from wind turbines to be located in the vicinity of La Rumorosa, Baja California, Mexico, to San Diego Gas and Electric Company's (SDG&E) existing Southwest Powerlink (SWPL) 500-kV transmission line. The proposed facilities would be approximately one mile long inside the United States and two miles long inside Mexico (total length of the facilities would be three miles) and consist of a single circuit 500-kV transmission line on either lattice towers or steel monopoles. The proposed facilities would include a loop-in substation on the SWPL. The proposed loop-in substation would be owned and operated by SDG&E. From the U.S.-Mexico border, the proposed transmission line would continue south approximately two additional miles to its origination point at a future 230/500-kV substation. The proposed transmission line located in Mexico and the 230/500-kV substation would be constructed, owned, operated, and maintained by a subsidiary of Sempra Energy Mexico.

The proposed transmission line would be used to transmit the entire electrical output of the La Rumorosa wind generators from Mexico to the United States. Energy will not be exported from the United States to Mexico, except for the small amount of electric energy needed for wind turbine lubrication, hydraulic, and control systems when the wind generators are not operating. Any entity exporting such electric energy from the United States would require an electricity export authorization issued by DOE under section 202(e) of the Federal Power Act (16 U.S.C. 824a(e)).

Procedural Matters: Any person desiring to become a party to this proceeding or to be heard by filing comments or protests to this application should file a petition to intervene, comment, or protest at the address provided above in accordance with §§ 385.211 or 385.214 of the FERC's Rules of Practice and Procedures (18 CFR 385.211, 385.214). Fifteen copies of each petition and protest should be filed with the DOE on or before the date listed above.

Additional copies of such petitions to intervene, comments, or protests should also be filed directly with Ms. Joan Heredia, Permitting Manager, Sempra Global, 101 Ash Street, HQ 8B, San Diego, California 92101.

Before a Presidential permit may be issued or amended, DOE must determine that the proposed action is in the public interest. In making that determination, DOE considers the environmental impacts of the proposed project pursuant to the National Environmental Policy Act (NEPA) of 1969, determines the project's impact on electric reliability by ascertaining whether the proposed project would adversely affect the operation of the U.S. electric power supply system under normal and contingency conditions, and any other factors that DOE may also consider relevant to the public interest. Also, DOE must obtain the concurrence of the Secretary of State and the Secretary of Defense before taking final action on a Presidential permit application.

Copies of this application will be made available, upon request, for public inspection and copying at the address provided above. In addition, the application may be reviewed or downloaded electronically at http://www.oe.energy.gov/permitting/electricity_imports_exports.htm. Upon reaching the Electricity Import/Exports page, select “Pending Proceedings.”

Issued in Washington, DC., on February 15, 2008.
Ellen Russell,
Acting Director, Siting and Permitting, Office of Electricity Delivery and Energy Reliability.

[FR Doc. E8-3333 Filed 2-21-08; 8:45 am]

BILLING CODE 6450-01-P